NUCLEAR REGULATORY COMMISSION

[Docket No. 72-1050; NRC-2016-0231]

Interim Storage Partner's Waste Control Specialists Consolidated Interim Storage Facility

Correction

In notice document C1-2018-18758, appearing on page 44680 in the Issue of Friday, August 31, 2018, the subject line is corrected to read as set forth above.

[FR Doc. C2-2018-18758 Filed 9-5-18; 8:45 am]

BILLING CODE 1301-00-D